DEPARTMENT OF TRANSPORTATION

Pipeline and Hazardous Materials Safety Administration (PHMSA), DOT

49 CFR Parts 172, 173, 175

[Docket No. PHMSA-2009-0095 (HM-224F)]

RIN 2137-AE44

Hazardous Materials: Transportation of Lithium Batteries

AGENCY: Pipeline and Hazardous Materials Safety Administration (PHMSA), DOT.

ACTION: Notice of public meeting.

SUMMARY: On January 11, 2010, the Pipeline and Hazardous Materials Safety Administration (PHMSA) in coordination with the Federal Aviation Administration (FAA) published a notice of proposed rulemaking to comprehensively address the safety risks associated with the air transport of lithium cells and batteries. PHMSA and FAA will hold a public meeting on March 5, 2010, in Washington, DC, to provide interested persons with an opportunity to submit oral comments on the proposals in the NPRM.

DATES: Public meeting: March 5, 2010, starting at 1 p.m. and ending at 4 p.m.

Written comments: All comments to this docket must be received no later than March 12, 2010. PHMSA will consider late-filed comments to the extent practicable as the agency develops a final rule.

ADDRESSES: Public meeting: The meeting will be held at the U.S. DOT headquarters 1200 New Jersey Ave, SE., Washington, DC 20590. The main visitor's entrance is located in the West Building, on New Jersey Avenue and M Street. Upon entering the lobby, visitors must report to the security desk. Visitors should indicate that they will be attending the Lithium Battery Public Meeting and wait to be escorted to the Conference Center. Any person wishing to participate in the public meeting should provide their name and organization to Kevin A. Leary or Charles E. Betts, by telephone or in writing no later than March 4, 2010. Providing this information will facilitate the security screening process for entry into the building on the day of the meeting.

Oral Presentations: Any person wishing to present an oral statement at the public meetings should notify Charles E. Betts or Kevin A. Leary, by March 4, 2010, and provide in advance or at the meeting, written copies of their presentations.

Written Comments: PHMSA and FAA invite interested parties, whether or not they attend the public meeting, to submit any relevant information, data, or comments to the docket of this proceeding (PHMSA-2009-0095) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov or DOT's Docket Operations Office (see ADDRESSES).

Privacy Act: Anyone is able to search the electronic form of any written communications and comments received into any of our dockets by the name of the individual submitting the document (or signing the document, if submitted on behalf of an association, business, labor union, etc.). You may review DOT's complete Privacy Act Statement in the Federal Register published on April 11, 2000 (Volume 65, Number 70; Pages 19477-78), which may also be found at http://www.regulations.gov.

FOR FURTHER INFORMATION CONTACT: Charles E. Betts or Kevin A. Leary, Office of Hazardous Materials Standards, telephone (202) 366-8553, Pipeline and Hazardous Materials Safety Administration, U.S. Department of Transportation, East Building, PHH-10, 1200 New Jersey Avenue, SE., Washington, DC 20590-0001.

SUPPLEMENTARY INFORMATION:

I. Background

On January 11, 2010, PHMSA, in consultation with FAA, proposed to amend requirements in the Hazardous Materials Regulations (HMR; 49 CFR Parts 171-180) applicable to the transportation of lithium cells and batteries, including lithium cells and batteries packed with or contained in equipment (HM-224F; 75 FR 1302). The proposed changes are intended to enhance safety by ensuring that all lithium batteries are designed to withstand normal transportation conditions and to communicate to carriers and emergency responders of the presence of these materials. Specifically, PHMSA and FAA propose to:

• Revise current shipping descriptions for lithium batteries (UN3090), lithium batteries packed with equipment (UN3091), and lithium batteries contained in equipment (UN3091) to specify lithium metal batteries including lithium alloy batteries as appropriate.¹

¹ In 2006, separate shipping descriptions for lithium metal batteries and lithium ion batteries were adopted into the UN Recommendations. The International Civil Aviation Organization and the International Maritime Organization subsequently adopted these shipping descriptions. All references to primary or secondary lithium batteries in international regulations were revised to reflect this change.

• Adopt shipping descriptions for lithium ion batteries including lithium ion polymer batteries (UN3480), lithium ion batteries packed with equipment including lithium ion polymer batteries (UN3481), lithium ion batteries contained in equipment including lithium ion polymer batteries (UN3481).¹

• Adopt watt-hours in place of equivalent lithium content to measure the relative hazard of lithium ion cells and batteries.

• Incorporate by reference the latest revisions to the United Nations Manual of Tests and Criteria applicable to the design type testing of lithium cells and batteries.

• Adopt and revise various definitions including “Aggregate lithium content” “Lithium content”, “Lithium ion cell or battery”, “Lithium metal cell or battery”, “Short circuit”, and “Watt-hour” based on definitions found in the UN Manual of Tests and Criteria.

• Require manufacturers to retain results of satisfactory completion of UN design type tests for each lithium cell and battery type and place a mark on the battery and/or cell to indicate testing has been completed successfully. PHMSA and the FAA will coordinate with the appropriate international organizations to ensure consistency.

• For air transportation, eliminate regulatory exceptions for lithium cells and batteries, other than certain exceptions for extremely small lithium cells and batteries that are shipped in very limited quantities such as button cells and other small batteries that are packed with or contained in equipment and those required for operational use in accordance with applicable airworthiness requirements and operating regulations.

• For all transport modes, require lithium cells and batteries to be packed to protect the cell or battery from short circuits.

• Unless transported in a container approved by the FAA Administrator, when transported aboard aircraft, limit stowage of lithium cells and batteries to crew accessible cargo locations or locations equipped with an FAA approved fire suppression system.

• Consolidate and simplify current and revised lithium battery requirements into one section of the HMR.

• Apply appropriate safety measures for the transport of lithium cells or batteries identified as being defective for safety reasons, or those that have been damaged or are otherwise being returned to the manufacturer.

To expedite compliance with the amendments in this notice, PHMSA proposed a mandatory compliance date of 75 days after the date of publication of the final rule.

II. Purpose of Public Meeting

The March 5, 2010 meeting is intended to provide an opportunity for all interested parties to comment on the NPRM and the accompanying regulatory evaluation. However, PHMSA and FAA consider it important to address the risks in the transportation of lithium cells and batteries promptly and that the 60-day comment period provided in the NPRM should be sufficient for all comments to be prepared and submitted. Accordingly, the March 12, 2010 deadline for submission of written comments is not being extended. However, PHMSA will consider late-filed comments to the extent practicable as the agency develops a final rule.

Issued in Washington, DC, on February 24, 2010.
Magdy El-Sibaie,
Acting Associate Administrator for Hazardous Materials Safety.

[FR Doc. 2010-4232 Filed 2-25-10; 4:15 pm]

BILLING CODE 4910-60-P